DEPARTMENT OF AGRICULTURE

Farm Service Agency

Information Collection; Measurement Service Records

AGENCY: Farm Service Agency, USDA.

ACTION: Notice; request for comments.

SUMMARY: In accordance with the Paperwork Reduction Act of 1995, the Farm Service Agency (FSA) is seeking comments from all interested individuals and organizations on an extension of a currently approved information collection associated with the Measurement Service Records.

DATES: We will consider comments that we receive by March 14, 2011.

ADDRESSES: We invite you to submit comments on this notice. In your comments, include date, volume and page number, the OMB Control Number and the title of the information collection of this issue of the Federal Register. You may submit comments by any of the following methods:

• Mail: Joe Lewis, Common Provisions Branch, Production Emergencies and Compliance Division, USDA, FSA, Farm Programs 1400 Independence Avenue, SW., STOP 0517, Washington, DC 20250-0523.

• E-mail: Joe.Lewis@wdc.usda.gov.

• Fax: (202) 720-4941.

You may also send comments to the Desk Officer for Agriculture, Office of Information and Regulatory Affairs, Office of Management and Budget, Washington, DC 20503.

FOR FURTHER INFORMATION CONTACT: Joe Lewis, USDA, Farm Service Agency, Production Emergencies and Compliance Division, (202) 720-0795, or Todd.Anderson@wdc.usda.gov.

SUPPLEMENTARY INFORMATION:

Description of Information Collection

Title: Measurement Service Records.

OMB Control Number: 0560-0260.

Expiration Date: 05/31/2011.

Type of Request: Extension.

Abstract: The producers request a measurement of acreage or production from the FSA. Producers use form FSA-409 (Measurement Service Record) to make a request, which requires a measurement fee to be paid FSA. Producers provide the acreage and production information to the FSA when obtaining program benefits. Measurement service procedure is followed in accordance with 7 CFR part 718 and FSA Handbook 2-CP. The FSA is using the collected information to provide acreage or production measurements to producers and to ensure that measurements are accurate.

Estimate of Annual Burden: Public reporting burden for this collection of information is estimated to average .25 hours per response. The travel time, which is included in the total annual burden, is estimated to be 1 hour per respondent.

Respondents: Producers.

Estimated Number of Respondents: 135,000.

Estimated Number of Responses per Respondent: 1.

Estimated Total Annual of Responses: 135,000.

Estimated Total Annual Burden Hours: 168,750 hours.

We are requesting comments on all aspects of this information collection to help us to:

(1) Evaluate whether the collection of information is necessary for the proper performance of the functions of the agency, including whether the information will have practical utility;

(2) Evaluate the accuracy of the agency's estimate of burden including the validity of the methodology and assumptions used;

(3) Enhance the quality, utility and clarity of the information to be collected;

(4) Minimize the burden of the collection of information on those who are to respond, including through the use of appropriate automated, electronic, mechanical, or other technological collection techniques or other forms of information technology.

All comments received in response to this notice, including names and addresses when provided, will be a matter of public record. Comments will be summarized and included in the submission for OMB approval.

Signed in Washington, DC, on January 4, 2011.
Jonathan Coppess,
Administrator, Farm Service Agency.

[FR Doc. 2011-345 Filed 1-10-11; 8:45 am]

BILLING CODE 3410-05-P